DEPARTMENT OF THE INTERIOR

Bureau of Land Management

[WO-320-1310-DT-OSHL]

Notice of Availability of Proposed Oil Shale and Tar Sands Resource Management Plan Amendments To Address Land Use Allocations in Colorado, Utah, and Wyoming and Final Programmatic Environmental Impact Statement

AGENCY: Bureau of Land Management, Interior.

ACTION: Notice of Availability (NOA).

SUMMARY: In accordance with the National Environmental Policy Act of 1969, the Energy Policy Act of 2005 and the Federal Land Policy and Management Act of 1976, the Bureau of Land Management (BLM) has prepared the Proposed Oil Shale and Tar Sands Resource Management Plan Amendments to Address Land Use Allocations in Colorado, Utah, and Wyoming (PRMP Amendments) and Final Programmatic Environmental Impact Statement (FPEIS).

DATES: As required by the NEPA, the EPA will publish a Notice in the Federal Register announcing the availability of the FPEIS. The BLM will wait at least 60 days after the publication of the EPA's Notice before signing and issuing the Record of Decision (ROD) approving the plan amendments.

ADDRESSES: Copies of the PRMP Amendments and FPEIS have been sent to affected Federal, state, and local government agencies and to interested parties. Paper and electronic (CD-ROM) copies of the PRMP Amendments and FPEIS are available at the following BLM locations:

• Colorado State Office, 2850 Youngfield Street, Lakewood, CO 80215.

• Utah State Office, 440 West 200 South, Suite 500, Salt Lake City, UT 84101.

• Wyoming State Office, 5353 Yellowstone, Cheyenne, WY 82009.

• Vernal Field Office, 170 South 500 East, Vernal, UT 84078.

• Price Field Office, 125 South 600 West, Price, UT 84501.

• Richfield Field Office, 150 East 900 North, Richfield, UT 84701.

• Monticello Field Office, 435 North Main, P.O. Box 7, Monticello, UT 84535.

• White River Field Office, 220 E. Market Street, Meeker, CO 81641.

• Glenwood Springs Field Office, 2425 S. Grand Ave., Suite 101, Glenwood Springs, CO 81601.

• Grand Junction Field Office, 2815 H Road, Grand Junction, CO 81506.

• Kemmerer Field Office, 312 Highway 189 North, Kemmerer, WY 83101.

• Rawlins Field Office, at 1300 North Third, P.O. Box 2407, Rawlins, WY 82301.

• Rock Springs Field Office, 280 Highway 191 North, Rock Springs, WY 82901.

Interested persons may also review the PRMP Amendments and FPEIS on the Internet at http://ostseis.anl.gov.

FOR FURTHER INFORMATION CONTACT: Sherri Thompson, BLM Project Manager, at (303) 239-3758, (sherri_thompson@blm.gov), Bureau of Land Management, 2850 Youngfield Street, Lakewood, Colorado 80215 or Mitchell Leverette, BLM Division Chief, Solid Minerals, at (202) 452-5088, (mitchell_leverette@blm.gov), Bureau of Land Management, 1620 L Street, NW., Washington DC 20036.

SUPPLEMENTARY INFORMATION: The Oil Shale and Tar Sands Resources PRMP Amendments and FPEIS are being prepared to meet the requirements established by Congress in Section 369 of the Energy Policy Act of 2005, the National Environmental Policy Act of 1969, and the Federal Land Policy Management Act of 1976. It evaluates the amendment of 12 resource management plans to designate lands as available for application for commercial leasing of oil shale and tar sands resources on public lands in Colorado, Utah, and Wyoming managed by the BLM. Specifically, the FPEIS evaluates amendments of nine land use plans to designate lands as available for commercial oil shale leasing and amendment of six lands use plans to designate lands as available for commercial tar sands leasing. Three of the plans contain both oil shale and tar sands resources, so a total of 12 plans will be amended. This FPEIS evaluates the amendment of BLM land use plans in those areas where oil shale and tar sands resources are present to provide the opportunity for application to lease BLM administered land for commercial oil shale and tar sands development. The planning area lies within the Green River Formation in Colorado, Utah, and Wyoming.

The purpose and need for the PRMP Amendments is to:

(1) Identify the most geologically prospective areas where oil shale and tar sands resources are present on public lands; and

(2) Amend 12 land use plans to allow for application for commercial oil shale or tar sands leasing, exploration and development.

In the Notice of Intent to prepare a PEIS, published in the Federal Register on December 13, 2005 (70 FR 73791), the BLM identified planning criteria, initiated the public scoping process, and invited the public to provide comments on the scope and objectives of the PEIS and to identify issues to be addressed in the planning process. During the scoping process, public meetings were held in Salt Lake City, Vernal, and Price, Utah; Rock Springs and Cheyenne, Wyoming; and Rifle and Denver, Colorado. Approximately 5,000 people participated in the scoping process by attending public meetings or submitting comments. The BLM published a scoping report in March 2006, summarizing and categorizing issues, concerns, and comments, and considered them in developing the alternatives in this PEIS.

A Notice of Availability of the RMP Amendments and Draft PEIS was published in the Federal Register on December 21, 2007 (72 FR 72751), for a 90-day public review and comment period. The comment period closed on March 20, 2008, reopened on March 21, 2008, for an additional 30-day review and comment period, and closed on April 21, 2008. Open Houses were held during February 2008 to provide additional information on the Draft PEIS. Comments on the Draft PEIS received from the public and cooperating agencies were considered and incorporated, as appropriate, into the proposed plan amendments. As a result of comments received, and upon further consideration, clarifications were made to the analysis and description of the proposed action, but proposed land use plan alternatives remained unchanged. Of the over 105,000 comments received, approximately 5,000 were individual comments and approximately 100,000 appeared to be similar or identical to one another (i.e., form letters).

The study area analyzed in the PEIS for the oil shale resources includes the most geologically prospective resources of the Green River Formation located in the Green River, Piceance, Uinta, and Washakie Basins, encompassing approximately 3,540,000 acres. The BLM has identified the most geologically prospective areas for oil shale development on the basis of the grade and thickness of the oil shale deposits. For the purposes of this PEIS, the most geologically prospective oil shale resources in Colorado and Utah are those deposits that yield 25 gallons of shale oil per ton of rock (gal/ton) or more and are 25 feet thick or greater. In Wyoming, where the oil shale resources are of lesser quality than in Colorado and Utah, the most geologically prospective oil shale resources are those deposits that yield 15 gal/ton or more of shale oil and are 15 feet thick or greater.

For the tar sands resources, the study area analyzed in the PEIS includes those locations designated as Special Tar Sand Areas (STSAs) by Congress in the Combined Hydrocarbon Leasing Act of 1981 (Pub. L. 97-78). Eleven STSAs were identified in Utah: Argyle Canyon-Willow Creek (hereafter referred to as Argyle Canyon), Asphalt Ridge-Whiterocks and Vicinity (hereafter referred to as Asphalt Ridge), Circle Cliffs East and West Flanks (hereafter referred to as Circle Cliffs), Hill Creek, Pariette, P.R. Spring, Raven Ridge-Rim Rock and Vicinity (hereafter referred to as Raven Ridge), San Rafael Swell, Sunnyside and Vicinity (hereafter referred to as Sunnyside), Tar Sand Triangle, and White Canyon. The total area of the tar sands study area is approximately 1,026,000 acres.

The oil shale and tar sands resources within the study areas defined in the PEIS are located within the jurisdiction of 12 separate BLM administrative units. These units include the Glenwood Springs, Grand Junction, and White River Field Offices in Colorado; the Moab, Monticello, Price, Richfield, and Vernal Field Offices, and the Grand Staircase Escalante National Monument in Utah; and the Kemmerer, Rawlins, and Rock Springs Field Offices in Wyoming. With the exception of the Grand Staircase-Escalante National Monument, the ROD for this PEIS would direct which land use plans in affected BLM administrative units will be amended to make designated lands available for application for commercial leasing, exploration, and development of oil shale and tar sands resources.

Within the above-listed administrative units, and within the defined boundaries of the most geologically prospective resources of the Green River formation and the designated STSAs, public lands managed by the BLM where the Federal government owns full fee title are included in the scope of the PEIS analysis. Lands where the surface estate is owned by Tribes, States, or private parties but where the Federal government owns the subsurface mineral estate (i.e., split estate lands) are also included in the scope of this analysis. Tribal lands on which both the surface estate and subsurface mineral estate are owned by the Tribe are not included in the scope of analysis.

In the PEIS, three alternatives were analyzed for amending land use plans to make BLM-administered lands available for application for future commercial leasing of both oil shale and tar sands resources, including a No Action alternative. These alternatives were developed through issue identification during the scoping process. Such issues included air quality, water quality and quantity, socio-economic concerns, ecological concerns, cultural, paleontology, and non-Wilderness Study Area lands with wilderness characteristics. The BLM has identified Alternative B as the proposed plan amendment. Of the 3,540,000 acres in the study areas, the preferred alternative would amend plans to make approximately 2 million acres of lands containing oil shale resources available for application for commercial leasing and approximately 430,000 acres available for tar sands. Alternative A, the no action alternative, would not amend land use plans to identify lands as available for application for lease, but would leave 352,780 acres of lands available for lease application under existing plans. Alternative C, which is similar to the Alternative B, would amend land use plans to identify areas available for application for lease comprising approximately 830,000 acres containing oil shale resources and approximately 230,000 acres available for tar sands.

This PEIS has been developed to analyze the direct, indirect, and cumulative environmental, cultural, and socioeconomic impacts of the three alternatives. The BLM's action of amending land use plans to open lands for application to lease oil shale and tar sands resources will not authorize issuance of any leases or ground disturbing activities. Future lease issuance and approval of development plans will be subject to additional NEPA analysis. As such, the BLM has determined that there are no environmental impacts associated with the amendment of land use plans. However, because BLM intends to establish a commercial leasing program to facilitate future development, BLM has included a broad, programmatic-level analysis of the potential impacts of oil shale and tar sands development technologies as they are currently known, in order to inform the land use planning decision as well as the development of this program.

Because developing this and other alternative energy resources is of strategic importance in enhancing our Nation's domestic energy supplies, the Assistant Secretary, Land and Minerals Management, in the Department of the Interior is the responsible official for these proposed plan amendments. The Federal Land Policy and Management Act and its implementing regulations provide land use planning authority to the Secretary, as delegated to this Assistant Secretary. Because this decision is being made by the Assistant Secretary, Land and Minerals Management, it is the final decision for the Department of the Interior. This decision is not subject to administrative review (protest) under the BLM or Departmental regulations (43 CFR 1610.5-2).

Authority: 40 CFR 1506.6, 43 CFR 1610.2, 43 CFR 1610.5-1.

Michael D. Nedd,
Assistant Director, Minerals and Realty Management.

[FR Doc. E8-20693 Filed 9-4-08; 8:45 am]

BILLING CODE 4210-84-P